DEPARTMENT OF HOMELAND SECURITY

Federal Emergency Management Agency

[Docket No. FEMA-2014-0002; Internal Agency Docket No. FEMA-B-1415]

Proposed Flood Hazard Determinations

AGENCY: Federal Emergency Management Agency; DHS.

ACTION: Notice; correction.

SUMMARY: On July 9, 2014, FEMA published in the Federal Register a proposed flood hazard determination notice that contained erroneous tables. This notice provides corrections to those tables, to be used in lieu of the information published at 79 FR 38926 and 79 FR 38927. The tables provided here represent the proposed flood hazard determinations and communities affected for the Narragansett HUC8 Watershed, including Bristol County, Massachusetts (All Jurisdictions), Norfolk County, Massachusetts (All Jurisdictions), and Plymouth County, Massachusetts (All Jurisdictions), and Des Moines County, Iowa, and Incorporated Areas.

DATES: Comments are to be submitted on or before December 15, 2014.

ADDRESSES: The Preliminary Flood Insurance Rate Map (FIRM), and where applicable, the Flood Insurance Study (FIS) report for each community are available for inspection at both the online location and the respective Community Map Repository address listed in the tables below. Additionally, the current effective FIRM and FIS report for each community are accessible online through the FEMA Map Service Center at www.msc.fema.gov for comparison.

You may submit comments, identified by Docket No. FEMA-B-1415, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064 or (email) Luis.Rodriguez3@fema.dhs.gov; or visit the FEMA Map Information eXchange (FMIX) online at www.floodmaps.fema.gov/fhm/fmx_main.html.

SUPPLEMENTARY INFORMATION: FEMA proposes to make flood hazard determinations for each community listed in the tables below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://floodsrp.org/pdfs/srp_fact_sheet.pdf.

The communities affected by the flood hazard determinations are provided in the tables below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 79 FR 38926 in the July 9, 2014, issue of the Federal Register, FEMA published a table titled Narragansett HUC8 Watershed. This table contained inaccurate information as to the online location for the Preliminary FIRM and FIS report for Bristol County, Massachusetts (All Jurisdictions), Norfolk County, Massachusetts (All Jurisdictions), and Plymouth County, Massachusetts (All Jurisdictions) featured in the table. In addition, in the proposed flood hazard determination notice published at 79 FR 38927 in the July 9, 2014, issue of the Federal Register, FEMA published a table titled Des Moines County, Iowa, and Incorporated Areas. This table contained inaccurate information as to the community map repository for the Unincorporated Areas of Des Moines County featured in the table. In this document, FEMA is publishing tables containing the accurate information. The information provided below should be used in lieu of that previously published.

I. Watershed-based studies:

Community | Community map repository address
Narragansett HUC8 Watershed
Maps Available for Inspection Online at http://www.fema.gov/preliminaryfloodhazarddata
Bristol County, Massachusetts (All Jurisdictions)
City of Attleboro | City Hall, 77 Park Street, Attleboro, MA 02703.
City of Taunton | City Hall, 15 Summer Street, Taunton, MA 02780.
Town of Acushnet | Town Hall, 122 Main Street, Acushnet, MA 02743.
Town of Berkley | Town Hall, One North Main Street, Berkley, MA 02779.
Town of Dighton | Town Hall, 979 Somerset Avenue, Dighton, MA 02715.
Town of Freetown | Town Hall, Three North Main Street, Assonet, MA 02702.
Town of Mansfield | Town Hall, Six Park Row, Mansfield, MA 02048.
Town of North Attleborough | Town Hall, 43 South Washington Street, North Attleborough, MA 02760.
Town of Norton | Town Hall, 70 East Main Street, Norton, MA 02766.
Town of Raynham | Town Hall, 558 South Main Street, Raynham, MA 02767.
Town of Seekonk | Town Hall, 100 Peck Street, Seekonk, MA 02771.
Norfolk County, Massachusetts (All Jurisdictions)
Town of Foxborough | Town Hall, 40 South Street, Foxborough, MA 02035.
Town of Plainville | Town Hall, 142 South Street, Plainville, MA 02762.
Plymouth County, Massachusetts (All Jurisdictions)
Town of Bridgewater | Memorial Building, 151 High Street, Bridgewater, MA 02324.
Town of East Bridgewater | Town Hall, 175 Central Street, East Bridgewater, MA 02333.
Town of Halifax | Town Hall, 499 Plymouth Street, Halifax, MA 02338.
Town of Lakeville | Town Hall, 346 Bedford Street, Lakeville, MA 02347.
Town of Middleborough | Town Hall Annex, 20 Centre Street, Middleborough, MA 02346.
Town of Rochester | Town Hall Annex, 37 Marion Way, Rochester, MA 02770.

II. Non-watershed-based studies:

Community | Community map repository address
Des Moines County, Iowa, and Incorporated Areas
Maps Available for Inspection Online at: http://www.fema.gov/preliminaryfloodhazarddata
Unincorporated Areas of Des Moines County | Southeast Iowa Regional Planning Commission, 211 North Gear Avenue, Suite 100, West Burlington, Iowa 52655.

(Catalog of Federal Domestic Assistance No. 97.022, “Flood Insurance.”)

Dated: August 26, 2014.
Roy E. Wright,
Deputy Associate Administrator for Mitigation, Department of Homeland Security, Federal Emergency Management Agency.

[FR Doc. 2014-21928 Filed 9-12-14; 8:45 am]

BILLING CODE 9110-12-P